DEPARTMENT OF HOMELAND SECURITY

Office of the Secretary

[Docket No. DHS-2012-0070]

Privacy Act of 1974; Department of Homeland Security/ALL-004 General Information Technology Access Account Records System of Records

AGENCY: Privacy Office, Department of Homeland Security.

ACTION: Notice of Privacy Act System of Records update.

SUMMARY: In accordance with the Privacy Act of 1974 the Department of Homeland Security proposes to update and reissue a Department of Homeland Security system of records notice titled, Department of Homeland Security/ALL-004 General Information Technology Access Account Records System of Records. As a result of the biennial review of this system, the Department proposes to update the categories of individuals and categories of records covered by the system. Additionally, the routine uses have been updated with minor clarifications. This updated system will be included in the Department of Homeland Security's inventory of record systems.

DATES: Written comments must be submitted on or before December 27, 2012.

ADDRESSES: You may submit comments, identified by Docket Number DHS-2012-0070 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received go to http://www.regulations.gov.

FOR FURTHER INFORMATION CONTACT: For general questions and for privacy issues please contact: Jonathan R. Cantor (202-343-1717), Acting Chief Privacy Officer, Privacy Office, U.S. Department of Homeland Security, Washington, DC 20528.

SUPPLEMENTARY INFORMATION:

I. Background

In accordance with the Privacy Act of 1974, 5 U.S.C. 552a, the Department of Homeland Security (DHS) proposes to update and reissue a current Department-wide system of records titled DHS/ALL-004 General Information Technology Access Account Records System of Records (73 FR 28139, May 15, 2008). The collection and maintenance of this information will assist DHS in managing the Department's information technology access account records.

This system consists of information collected in order to provide authorized individuals with access to DHS information technology resources. This information includes user name, business affiliation, account information, and passwords. Passwords are encrypted and used as part of the log in process for verification of appropriate access.

In accordance with the Privacy Act of 1974, DHS is giving notice that it proposes to update and reissue a DHS system of records notice titled, DHS/ALL-004 General Information Technology Access Account Records System of Records. As a result of the biennial review of this system, the Department proposes to update the categories of individuals, to include individuals who have been denied or had access revoked. In addition, the categories of records has been updated to include such information as voluntary posting of photos for collaboration purposes, comments posted for collaboration purposes, training taken, justification for access, and all logs of activity on the DHS network. Finally, the routine uses have been updated with minor clarifications. This updated system will be included in DHS's inventory of record systems.

II. Privacy Act

The Privacy Act embodies fair information principles in a statutory framework governing the means by which the federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to which their records are put, and to assist individuals to more easily find such files within the agency. Below is the description of DHS/ALL-004 General Information Technology Access Account Records System of Records.

In accordance with 5 U.S.C. 552a(r), DHS has provided a report of this system of records to the Office of Management and Budget and to Congress.

SYSTEM OF RECORDS

Department of Homeland Security (DHS)/ALL-004

System name:

DHS/ALL-004 General Information Technology Access Account Records System of Records.

Security classification:

Sensitive but unclassified.

System location:

Records are maintained at several Headquarters locations and in component offices of the Department of Homeland Security, in both Washington, DC and field locations.

Categories of individuals covered by the system:

• All persons who are authorized to access DHS information technology resources, including employees, contractors, grantees, private enterprises, and any lawfully designated representative of the above and including representatives of federal, state, territorial, tribal, local, international, or foreign government agencies or entities, in furtherance of the DHS mission.

• Individuals who serve on DHS boards and committees;

• Individuals who have business with DHS and who have provided personal information in order to facilitate access to DHS information technology resources;

• Individuals who are points of contact provided for government business, operations, or programs, and the individual(s) they list as emergency contacts;

• Individuals who voluntarily join a DHS-owned and operated web portal for collaboration purposes; and

• Individuals who request access but are denied, or who have had access revoked.

Categories of records in the system:

• Name;

• Social Security Number;

• Business and affiliations;

• Facility positions held;

• Business telephone numbers;

• Cellular phone numbers;

• Pager numbers;

• Numbers where individuals can be reached while on travel or otherwise away from the office;

• Citizenship;

• Level of access;

• Home addresses;

• Business addresses;

• Electronic mail addresses of senders and recipients;

• Justification for access to DHS computers, networks, or systems;

• Verification of training requirements or other prerequisite requirements for access to DHS computers, networks, or systems;

• Records on access to DHS computers and networks including user ID and passwords;

• Registration numbers or IDs associated with DHS Information Technology resources;

• Date and time of access;

• Logs of activity of DHS IT resources;

• IP address of access;

• Logs of Internet activity; and

• Records on the authentication of the access request, names, phone numbers of other contacts, and positions or business/organizational affiliations and titles of individuals who can verify that the individual seeking access has a need to access as well as other contact information provided to the Department that is derived from other sources to facilitate authorized access to DHS Information Technology resources.

Authority for maintenance of the system:

44 U.S.C. 3101; EO 9397 (SSN), as amended by EO 13487; and 44 U.S.C. 3534.

Purpose(s):

This system will collect a discreet set of personally identifiable information in order to provide authorized individuals access to, or interact with DHS information technology resources, and allow DHS to track use of DHS IT resources. Directly resulting from the use of DHS information technology resources is the collection, review, and maintenance of any logs, audits, or other such security data regarding the use of such information technology resources.

The system enables DHS to maintain: Account information required for approved access to information technology; lists of individuals who are appropriate organizational points of contact; and lists of individuals who are emergency points of contact. The system will also enable DHS to provide individuals access to certain programs and meeting attendance and where appropriate, allow for sharing of information between individuals in the same operational program to facilitate collaboration.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3), as follows:

A. To the Department of Justice (including United States Attorney Offices) or other federal agency conducting litigation or in proceedings before any court, adjudicative or administrative body, when it is relevant or necessary to the litigation and one of the following is a party to the litigation or has an interest in such litigation:

1. DHS or any component thereof;

2. Any employee of DHS in his/her official capacity;

3. Any employee of DHS in his/her individual capacity where DOJ or DHS has agreed to represent the employee; or

4. The United States or any agency thereof.

B. To a congressional office from the record of an individual in response to an inquiry from that congressional office made at the request of the individual to whom the record pertains.

C. To the National Archives and Records Administration or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To sponsors, employers, contractors, facility operators, grantees, experts, and consultants in connection with establishing an access account for an individual or maintaining appropriate points of contact and when necessary to accomplish a DHS mission function or objective related to this system of records.

I. To other individuals in the same operational program supported by an information technology system, where appropriate notice to the individual has been made that his or her contact information will be shared with other members of the same operational program in order to facilitate collaboration.

J. To federal agencies such as Office of Personnel Management, the Merit Systems Protection Board, the Office of Management and Budget, Federal Labor Relations Authority, Government Accountability Office, and the Equal Employment Opportunity Commission in the fulfillment of these agencies' official duties.

K. To international, federal, state and local, tribal, private and/or corporate entities for the purpose of the regular exchange of business contact information in order to facilitate collaboration for official business.

L. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are on paper and/or in digital or other electronic form. Digital and other electronic images are stored on a storage area network in a secured environment. Records, whether paper or electronic, may be stored at the DHS Headquarters or at the component level.

Retrievability:

Information may be retrieved, sorted, and/or searched by an identification number assigned by computer, social security number, by facility, by business affiliation, email address, or by the name of the individual, or other employee data fields previously identified in this SORN.

Safeguards:

Information in this system is safeguarded in accordance with applicable laws, rules and policies, including the DHS Information Technology Security Program Handbook and DHS Information Security Program Policy and Handbook. Further, DHS/ALL-004 General Information Technology Access Account Records system of records security protocols will meet multiple National Institute of Standards and Technology (NIST) Security Standards from Authentication to Certification and Accreditation. Records in the DHS/ALL-004 General Information Technology Access Account Records system of records will be maintained in a secure, password-protected electronic system that will utilize security hardware and software to include: Multiple firewalls, active intruder detection, and role-based access controls. Additional safeguards will vary by component and program. All records are protected from unauthorized access through appropriate administrative, physical, and technical safeguards. These safeguards include: Restricting access to authorized personnel who have a “need to know;” using locks; and password protection identification features. Classified information is appropriately stored in accordance with applicable requirements. DHS file areas are locked after normal duty hours and the facilities are protected from the outside by security personnel.

Retention and disposal:

Records are securely retained and disposed of in accordance with the National Archives and Records Administration's General Records Schedule 24, section 6, “User Identification, Profiles, Authorizations, and Password Files.” Inactive records will be destroyed or deleted 6 years after the user account is terminated or password is altered, or when no longer needed for investigative or security purposes, whichever is later.

System Manager and address:

The System Manager is the Chief Information Officer (CIO), Department of Homeland Security, Washington, DC 20528.

Notification procedure:

Individuals seeking notification of and access to any record contained in this system of records, or seeking to contest its content, may submit a request in writing to the Headquarters' or component's FOIA Officer, whose contact information can be found at http://www.dhs.gov/foia under “contacts.” If an individual believes more than one component maintains Privacy Act records concerning him or her, the individual may submit the request to the Chief Privacy Officer and Chief Freedom of Information Act Officer, Privacy Office, Department of Homeland Security, 245 Murray Drive SW., Building 410, STOP-0655, Washington, DC 20528.

When seeking records about yourself from this system of records or any other Departmental system of records, your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should:

• Explain why you believe the Department would have information on you;

• Identify which component(s) of the Department you believe may have the information about you;

• Specify when you believe the records would have been created; and

• Provide any other information that will help the FOIA staff determine which DHS component agency may have responsive records.

If your request is seeking records pertaining to another living individual, you must include a statement from that individual certifying his/her agreement for you to access his/her records.

Without the above information the component(s) may not be able to conduct an effective search, and your request may be denied due to lack of specificity or lack of compliance with applicable regulations.

Record access procedures:

See “Notification procedure” above.

Contesting record procedures:

See “Notification procedure” above.

Record source categories:

Information contained in this system is obtained from affected individuals/organizations/facilities, public source data, other government agencies and/or information already in other DHS records systems.

Exemptions claimed for the system:

None.

Dated: November 13, 2012.
Jonathan R. Cantor,
Acting Chief Privacy Officer, Department of Homeland Security.

[FR Doc. 2012-28675 Filed 11-26-12; 8:45 am]

BILLING CODE 9110-9B-P